DEPARTMENT OF LABOR

Occupational Safety and Health Administration

Maritime Advisory Committee for Occupational Safety and Health (MACOSH)

AGENCY: Occupational Safety and Health Administration (OSHA), Labor.

ACTION: Announcement of meeting.

SUMMARY: The purpose of this Federal Register notice is to announce the Advisory Committee and workgroup meetings scheduled for July 13-14, 2010. The Maritime Advisory Committee for Occupational Safety and Health (MACOSH or Committee) was established under Section 7 of the Occupational Safety and Health Act of 1970 to advise the Assistant Secretary of Labor for Occupational Safety and Health on issues relating to occupational safety and health in the maritime industries.

DATES: The Shipyard and Longshoring workgroups will meet on Tuesday, July 13, 2010, 8 a.m. until approximately 4 p.m. (PT), and the Committee will meet on Wednesday, July 14, 2010, from 8:30 a.m. until approximately 4:30 p.m. (PT).

ADDRESSES: The Committee and workgroups will meet at the Renaissance Long Beach Hotel, 111 East Ocean Boulevard, Long Beach, CA 90802 ((562) 437-5900). Mail comments, views, or statements in response to this notice to Vanessa L. Welch, Office of Maritime, OSHA, U.S. Department of Labor, Room N-3609, 200 Constitution Avenue, NW., Washington, DC 20210; phone (202) 693-2080; fax (202) 693-1663.

FOR FURTHER INFORMATION CONTACT: For general information about MACOSH and this meeting, contact: Joseph V. Daddura, Director, Office of Maritime, OSHA, U.S. Department of Labor, Room N-3609, 200 Constitution Avenue, NW., Washington, DC 20210; phone: (202) 693-2067. Individuals with disabilities wishing to attend the meeting should contact Vanessa L. Welch at (202) 693-2080 no later than July 13, 2010, to obtain appropriate accommodations.

SUPPLEMENTARY INFORMATION: All MACOSH meetings are open to the public. All interested persons are invited to attend the MACOSH meeting at the time and location listed above. The MACOSH agenda will include: an OSHA activities update; a review of the minutes from the previous meeting; and reports from each workgroup. MACOSH may also discuss the following topics based on the workgroup reports: arc flash guidance; fall protection in commercial fishing; ventilation for welding and allied operations in shipyards; eye protection against radiant energy for welding in shipyards; scaffolding and falls (29 CFR 1915 subpart E); shipbreaking guidance; container rail safety guidance; plugging and unplugging reefer safety; mechanics working in the yard at marine terminals; safely servicing terminal equipment in the yard; and freeing inoperable semi-automatic twist locks (SATLs).

Public Participation: Written data, views, or comments for consideration by MACOSH on the various agenda items listed above should be submitted to Vanessa L. Welch at the address listed above. Submissions received by June 29, 2010, will be provided to Committee members and will be included in the record of the meeting. Requests to make oral presentations to the Committee may be granted as time permits.

Authority: This notice was prepared under the direction of David Michaels, PhD, MPH, Assistant Secretary of Labor for Occupational Safety and Health, U.S. Department of Labor, 200 Constitution Avenue, NW., Washington, DC 20210, pursuant to Sections 6(b)(1) and 7(b) of the Occupational Safety and Health Act of 1970 (29 U.S.C. 655(b)(1), 656(b)), the Federal Advisory Committee Act (5 U.S.C. App. 2), Secretary of Labor's Order 5-2007 (72 FR 31160), and 29 CFR part 1912.

Signed at Washington, DC, this 16th day of June 2010.
David Michaels,
Assistant Secretary of Labor for Occupational Safety and Health.

[FR Doc. 2010-14968 Filed 6-18-10; 8:45 am]

BILLING CODE 4510-26-P